DEPARTMENT OF STATE

[Public Notice: 11045]

Determination Pursuant to the Foreign Missions Act

Pursuant to the authority vested in the Secretary of State by the laws of the United States including the Foreign Missions Act (22 U.S.C. 4301 et seq.) and delegated by the Secretary to me in accordance with the Department of State's Delegation of Authority No. 214, dated September 20, 1994, I hereby determine that the representative offices in the United States of the following entities:

1. Xinhua

2. China Global Television Network

3. China Radio International

4. China Daily Distribution Corporation

5. Hai Tian Development USA

including their real property and personnel, are foreign missions within the meaning of 22 U.S.C. 4302(a)(3).

Furthermore, I hereby determine it to be reasonably necessary to protect the interests of the United States to require the representative offices in the United States of the above noted entities, and their agents or employees acting on their behalf, to comply with the terms and conditions specified by the Department of State's Office of Foreign Missions relating to the above noted entities' operations in the United States.

Finally, I determine that the requirements established by Designation 2019-5, dated October 15, 2019 (84 FR 56281) will not be applied to the above-named entities unless and until further notice.

Stephen J. Akard,
Director, Office of Foreign Missions.

[FR Doc. 2020-03519 Filed 2-21-20; 8:45 am]

BILLING CODE 4710-43-P